DEPARTMENT OF COMMERCE

International Trade Administration

[A-533-840, A-549-822]

Certain Frozen Warmwater Shrimp From India and Thailand: Notice of Initiation of Antidumping Duty Administrative Reviews

AGENCY: Enforcement and Compliance, International Trade Administration, Department of Commerce.

ACTION: Notice.

SUMMARY: The Department of Commerce (the Department) received requests to conduct administrative reviews of the antidumping duty orders on certain frozen warmwater shrimp (shrimp) from India and Thailand for the period February 1, 2013 through January 31, 2014. The anniversary month of these orders is February. In accordance with the Department's regulations, we are initiating these administrative reviews. The Department also received a request to defer the initiation of the administrative review for the order on shrimp from Thailand with respect to various Thai companies.

DATES: Effective: April 2, 2014.

FOR FURTHER INFORMATION CONTACT: David Crespo at (202) 482-3693 (India) and Dennis McClure (202) 482-5973 (Thailand), AD/CVD Operations, Office II, Enforcement and Compliance, International Trade Administration, U.S. Department of Commerce, 14th Street and Constitution Avenue NW., Washington, DC 20230.

SUPPLEMENTARY INFORMATION:

Background

During the anniversary month of February 2014, the Department received timely requests, in accordance with 19 CFR 351.213(b), for administrative reviews of the antidumping duty orders on shrimp from India and Thailand from the Ad Hoc Shrimp Trade Action Committee (hereinafter, the petitioner), the American Shrimp Processors Association (ASPA), and certain individual companies.

All deadlines for the submission of various types of information, certifications, or comments or actions by the Department discussed below refer to the number of calendar days from the applicable starting time.

Request To Defer Review

In their requests for administrative review, various Thai companies requested that the Department defer the initiation of the review for one year, pursuant to 19 CFR 351.213(c). These companies are identified by a * in the “Initiation of Reviews” section of this notice, below. None of the parties provided any justification for their deferral request.

The Department's regulations, as set forth in 19 CFR 351.213(c)(1)(i) and (ii), provide that the Department may defer the initiation of an antidumping duty administrative review, in whole or in part, for one year if: (1) The request for review was accompanied by a request to defer the review; and (2) neither the exporter or producer for which the deferral is requested, the importer of subject merchandise from that exporter or producer, or a domestic interested party objects to the deferral. The Department received no objections to this request from any party cited in 19 CFR 351.213(c)(1)(ii).

The preamble to the Department's regulations states that the Department established the provision for deferring the initiation of an administrative review, in part, to reduce burdens on the Department.¹ We believe that deferring the instant review is not likely to save Departmental resources because it is likely that, in this review, as in every prior administrative review of this Thai order, the Department will find it necessary to limit the number of respondents examined.² Accordingly, even if the Department defers the administrative review for these companies, it will likely still review the same number of respondents, i.e., the maximum number of respondents which our resources will permit. Therefore, we have not deferred the instant review for any companies requesting deferral with respect to the order on shrimp from Thailand.

¹ See Antidumping Duties; Countervailing Duties; Final Rule, 62 FR 27296, 27317 (May 19, 1997).

² See, e.g., Initiation of Administrative Review of the Antidumping Duty Order on Wooden Bedroom Furniture From the People's Republic of China, 76 FR 10880, 10882 (Feb. 28, 2011).

Notice of No Sales

If a producer or exporter named in this notice of initiation had no exports, sales, or entries during the period of review (POR), it must notify the Department within 60 days of publication of this notice in the Federal Register. All submissions must be filed electronically at http://iaaccess.trade.gov in accordance with 19 CFR 351.303.³ Such submissions are subject to verification in accordance with section 782(i) of the Tariff Act of 1930, as amended (the Act). Further, in accordance with 19 CFR 351.303(f)(1)(i), a copy must be served on every party on the Department's service list.

³ See Antidumping and Countervailing Duty Proceedings: Electronic Filing Procedures; Administrative Protective Order Procedures, 76 FR 39263 (July 6, 2011).

Respondent Selection

In the event the Department limits the number of respondents for individual examination for administrative reviews, the Department intends to select respondents based on U.S. Customs and Border Protection (CBP) data for U.S. imports during the POR. We intend to release the CBP data under Administrative Protective Order (APO) to all parties having an APO within seven days of publication of this initiation notice and to make our decision regarding respondent selection within 21 days of publication of this Federal Register notice. The Department invites comments regarding the CBP data and respondent selection within five days of placement of the CBP data on the record of the applicable review.

In general, the Department has found that determinations concerning whether particular companies should be “collapsed” (i.e., treated as a single entity for purposes of calculating antidumping duty rates) require a substantial amount of detailed information and analysis, which often require follow-up questions and analysis. Accordingly, the Department will not collapse companies at the respondent selection phase unless there has been a determination to collapse certain companies in a previous segment of these antidumping proceedings (i.e., investigation, administrative review, or changed circumstances review). For any company subject to these reviews, if the Department determined, or continued to treat, that company as collapsed with others, the Department will assume that such companies continue to operate in the same manner and will collapse them for respondent selection purposes. Parties are requested to (a) identify which companies subject to review previously were collapsed, and (b) provide a citation to the proceeding in which they were collapsed.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Requests for Reviews of Non-Shrimp Producers/Exporters

In the 2011-2012 administrative review of shrimp from Thailand, the Department found that Kosamut Frozen Foods Co., Ltd. (Kosamut) and Tanaya International Co., Ltd./Tanaya Intl (collectively, Tanaya), were neither exporters nor producers of the subject merchandise, as defined in 19 CFR sections 351.213(b) and 351.102(b)(29)(i). Accordingly, we rescinded the review for these companies, pursuant to 19 CFR 351.213(d)(3).⁴ Therefore, based upon that determination, we are not initiating an administrative review with respect to Kosamut or Tanaya for the current POR absent specific information that the companies at issue are exporters or producers of the subject merchandise.

⁴ See Certain Frozen Warmwater Shrimp From Thailand: Final Results of Antidumping Duty Administrative Review, Partial Rescission of Review, and Revocation of Order (in Part); 2011-2012, 78 FR 42497, 42498 (July 16, 2013).

Moreover, in the 2012-2013 administrative review of shrimp from Thailand, GSE Lining Technology Co., Ltd. (GSE) notified the Department that it was a manufacturer of geosynthetic liners, not a producer or exporter of shrimp, and that it has never made shipments of subject merchandise to the United States.⁵ Therefore, based upon this information, we are not initiating an administrative review with respect to GSE for the current POR.

⁵ See the memorandum to the file from Alice Maldonado entitled, “Placing Information on the Record of the 2013-2014 Administrative Review of Certain Frozen Warmwater Shrimp From Thailand,” dated concurrently with this notice.

Initiation of Reviews

In accordance with 19 CFR 351.221(c)(1)(i), we are initiating administrative reviews of the antidumping duty orders on shrimp from India and Thailand. We intend to issue the final results of these reviews not later than March 7, 2015.

| Period to be reviewed
Antidumping Duty Proceedings
India: Certain Frozen Warmwater Shrimp, A-533-840 | 2/1/13—1/31/14
Abad Fisheries
Accelerated Freeze-Drying Co.
Adilakshmi Enterprises
Akshay Food Impex Private Limited
Allana Frozen Foods Pvt. Ltd.
Allanasons Ltd.
AMI Enterprises
Amulya Seafoods
Anand Aqua Exports
Ananda Aqua Applications/Ananda Aqua Exports (P) Limited/Ananda Foods
Ananda Enterprises (India) Private Limited
Andaman Sea Foods Pvt. Ltd.
Angelique Intl
Anjaneya Seafoods
Apex Frozen Foods Private Limited ⁶
Arvi Import & Export
Asvini Exports
Asvini Fisheries Private Limited
Avanti Feeds Limited
Ayshwarya Seafood Private Limited
Baby Marine Exports
Baby Marine International
Baby Marine Sarass
Balasore Marine Exports Private Limited
Bhatsons Aquatic Products
Bhavani Seafoods
Bijaya Marine Products
Blue Fin Frozen Foods Pvt. Ltd.
Blue Water Foods & Exports P. Ltd.
Bluefin Enterprises
Bluepark Seafoods Private Ltd.
BMR Exports
Britto Exports
C P Aquaculture (India) Ltd.
Calcutta Seafoods Pvt. Ltd.
Canaan Marine Products
Capithan Exporting Co.
Castlerock Fisheries Ltd.
Chemmeens (Regd)
Cherukattu Industries (Marine Div.)
Choice Canning Company
Choice Trading Corporation Private Limited
Coastal Aqua
Coastal Corporation Ltd.
Cochin Frozen Food Exports Pvt. Ltd.
Coreline Exports
Corlim Marine Exports Pvt. Ltd.
D2 D Logistics Private Limited
Damco India Private Limited
Delsea Exports Pvt. Ltd.
Devi Fisheries Limited/Satya Seafoods Private Limited/Usha Seafoods
Devi Marine Food Exports Private Ltd./Kader Exports Private Limited/Kader Investment and Trading Company Private Limited/Liberty Frozen Foods Pvt. Ltd./Liberty Oil Mills Ltd./Premier Marine Products/Universal Cold Storage Private Limited
Diamond Seafoods Exports/Edhayam Frozen Foods Pvt. Ltd./Kadalkanny Frozen Foods/Theva & Company
Devi Sea Foods Limited ⁷
Digha Seafood Exports
Esmario Export Enterprises
Exporter Coreline Exports
Falcon Marine Exports Limited/K.R. Enterprises
Five Star Marine Exports Private Limited
Forstar Frozen Foods Pvt. Ltd.
Frontline Exports Pvt. Ltd.
G A Randerian Ltd.
Gadre Marine Exports
Galaxy Maritech Exports P. Ltd.
Gayatri Seafoods
Geo Aquatic Products (P) Ltd.
Geo Seafoods
Goodwill Enterprises
Grandtrust Overseas (P) Ltd.
GVR Exports Pvt. Ltd.
Haripriya Marine Export Pvt. Ltd.
Harmony Spices Pvt. Ltd.
HIC ABF Special Foods Pvt. Ltd.
Hindustan Lever, Ltd.
Hiravata Ice & Cold Storage
Hiravati Exports Pvt. Ltd.
Hiravati International P. Ltd. (located at APM—Mafco Yard, Sector—18, Vashi, Navi, Mumbai—400 705, India)
Hiravati International Pvt. Ltd. (located at Jawar Naka, Porbandar, Gujarat, 360 575, India)
IFB Agro Industries Ltd.
Indian Aquatic Products
Indo Aquatics
Innovative Foods Limited
International Freezefish Exports
Interseas
ITC Limited, International Business
ITC Ltd.
Jagadeesh Marine Exports
Jaya Satya Marine Exports
Jaya Satya Marine Exports Pvt. Ltd.
Jayalakshmi Sea Foods Private Limited
Jinny Marine Traders
Jiya Packagings
K R M Marine Exports Ltd.
K V Marine Exports
Kalyan Aqua & Marine Exports India Pvt. Ltd.
Kalyanee Marine
Kanch Ghar
Kay Kay Exports
Kings Marine Products
KNC Agro Pvt. Ltd
Koluthara Exports Ltd.
Konark Aquatics & Exports Pvt. Ltd.
Landauer Ltd.
Libran Cold Storages (P) Ltd.
Lighthouse Trade Links Pvt. Ltd.
Magnum Estates Limited
Magnum Export
Magnum Sea Foods Limited
Malabar Arabian Fisheries
Malnad Exports Pvt. Ltd.
Mangala Marine Exim India Pvt. Ltd.
Mangala Sea Products
Mangala Seafoods
Meenaxi Fisheries Pvt. Ltd.
MSC Marine Exporters
MSRDR Exports
MTR Foods
N.C. John & Sons (P) Ltd
Naga Hanuman Fish Packers
Naik Frozen Foods Private Limited
Naik Seafoods Ltd.
Navayuga Exports
Nekkanti Sea Foods Limited
Nezami Rekha Sea Food Private Limited
NGR Aqua International
Nila Sea Foods Pvt. Ltd.
Nine Up Frozen Foods
Nutrient Marine Foods Limited
Overseas Marine Export
Paragon Sea Foods Pvt. Ltd.
Parayil Food Products Pvt. Ltd.
Penver Products Pvt. Ltd.
Pesca Marine Products Pvt. Ltd.
Pijikay International Exports P Ltd.
Pisces Seafood International
Premier Exports International
Premier Marine Foods
Premier Seafoods Exim (P) Ltd.
R V R Marine Products Limited
Raa Systems Pvt. Ltd.
Raju Exports
Ram's Assorted Cold Storage Ltd.
Raunaq Ice & Cold Storage
Raysons Aquatics Pvt. Ltd.
Razban Seafoods Ltd.
RBT Exports
RDR Exports
Riviera Exports Pvt. Ltd.
Rohi Marine Private Ltd.
S & S Seafoods
S. A. Exports
S Chanchala Combines
Safa Enterprises
Sagar Foods
Sagar Grandhi Exports Private Limited
Sagar Samrat Seafoods
Sagarvihar Fisheries Pvt. Ltd.
Sai Marine Exports Pvt. Ltd.
Sai Seafoods
Sanchita Marine Products Private Limited
Sandhya Aqua Exports
Sandhya Aqua Exports Pvt. Ltd.
Sandhya Marines Limited
Santhi Fisheries & Exports Ltd.
Sarveshwari Exports
Satya Seafoods Private Limited
Sawant Food Products
Sea Foods Private Limited
Seagold Overseas Pvt. Ltd.
Selvam Exports Private Limited
Sharat Industries Ltd.
Shimpo Exports Pvt. Ltd.
Shippers Exports
Shiva Frozen Food Exp. Pvt. Ltd.
Shree Datt Aquaculture Farms Pvt. Ltd.
Shroff Processed Food & Cold Storage P Ltd.
Silver Seafood
Sita Marine Exports
Sowmya Agri Marine Exports
Sprint Exports Pvt. Ltd.
Sri Chandrakantha Marine Exports
Sri Sakkthi Cold Storage
Sri Sakthi Marine Products P Ltd.
Sri Satya Marine Exports
Sri Venkata Padmavathi Marine Foods Pvt. Ltd.
Srikanth International
SSF Ltd.
Star Agro Marine Exports Private Limited
Star Organic Foods Incorporated
Sun-Bio Technology Ltd.
Supran Exim Private Limited
Suryamitra Exim Pvt. Ltd.
Suvarna Rekha Exports Private Limited
Suvarna Rekha Marines P Ltd.
TBR Exports Pvt Ltd.
Teekay Marine P. Ltd.
Tejaswani Enterprises
The Waterbase Ltd.
Triveni Fisheries P Ltd.
Uniloids Biosciences Private Limited
Uniroyal Marine Exports Ltd.
Unitriveni Overseas
Usha Seafoods
V.S Exim Pvt Ltd.
Vasista Marine
Veejay Impex
Victoria Marine & Agro Exports Ltd.
Vinner Marine
Vishal Exports
Wellcome Fisheries Limited
West Coast Frozen Foods Private Limited
Z A Sea Foods Pvt. Ltd.
Thailand: Certain Frozen Warmwater Shrimp, A-549-822 | 2/1/13-1/31/14
A Foods 1991 Co., Limited/May Ao Foods Co., Ltd.⁸*
A. Wattanachai Frozen Products Co., Ltd.*
A.P. Frozen Foods Co., Ltd.*
A.S. Intermarine Foods Co., Ltd.
ACU Transport Co., Ltd.
Ampai Frozen Foods Co., Ltd.*
Anglo-Siam Seafoods Co., Ltd.
Apex Maritime (Thailand) Co., Ltd.
Apitoon Enterprise Industry Co., Ltd.
Applied DB Ind.
Asian Seafood Coldstorage (Sriracha)*
Asian Seafoods Coldstorage Public Co., Ltd./Asian Seafoods Coldstorage (Suratthani) Co., Limited/STC Foodpak Ltd.*⁹
Assoc. Commercial Systems
B.S.A. Food Products Co., Ltd.
Bangkok Dehydrated Marine Product Co., Ltd.
C Y Frozen Food Co., Ltd.
C.P. Mdse
C.P. Merchandising Co., Ltd.*
CP Retailing and Marketing Co., Ltd.
C.P. Intertrade Co. Ltd.*
Calsonic Kansei (Thailand) Co., Ltd.
Century Industries Co., Ltd.
Chaivaree Marine Products Co., Ltd.
Chaiwarut Company Limited
Charoen Pokphand Foods Public Co., Ltd.*
Charoen Pokphand Petrochemical Co., Ltd.*
Chonburi LC
Chue Eie Mong Eak
Commonwealth Trading Co., Ltd.
Core Seafood Processing Co., Ltd.
CPF Food Products Co., Ltd.*
Crystal Frozen Foods Co., Ltd. and/or Crystal Seafood*
Daedong (Thailand) Co. Ltd.
Daiei Taigen (Thailand) Co., Ltd.
Daiho (Thailand) Co., Ltd.
Dynamic Intertransport Co., Ltd.
Earth Food Manufacturing Co., Ltd.
F.A.I.T. Corporation Limited
Far East Cold Storage Co., Ltd.
Findus (Thailand) Ltd.
Fortune Frozen Foods (Thailand) Co., Ltd.*
Frozen Marine Products Co., Ltd.
Gallant Ocean (Thailand) Co., Ltd.*
Gallant Seafoods Corporation
Global Maharaja Co., Ltd.
Golden Sea Frozen Foods Co., Ltd.*
Golden Thai Imp. & Exp. Co., Ltd.
Good Fortune Cold Storage Co. Ltd.*
Good Luck Product Co., Ltd.*
Grobest Frozen Foods Co., Ltd.
Gulf Coast Crab Intl.
H.A.M. International Co., Ltd.
Haitai Seafood Co., Ltd.
Handy International (Thailand) Co., Ltd.
Heng Seafood Limited Partnership
Heritrade
HIC (Thailand) Co., Ltd.
High Way International Co., Ltd.
I.S.A. Value Co., Ltd.*
I.T. Foods Industries Co., Ltd.*
Inter-Oceanic Resources Co., Ltd.*
Inter-Pacific Marine Products Co., Ltd.*
K & U Enterprise Co., Ltd.*
K Fresh
K. D. Trading Co., Ltd.
K.L. Cold Storage Co., Ltd.
KF Foods Ltd.*
Kiang Huat Sea Gull Trading Frozen Food Public Co., Ltd.*
Kibun Trdg.
Kingfisher Holdings Ltd.*
Kitchens of the Oceans (Thailand) Company, Ltd.*
Klang Co., Ltd.
Kongphop Frozen Foods Co., Ltd.*
Lee Heng Seafood Co., Ltd.*
Leo Transports
Li-Thai Frozen Foods Co., Ltd.
Lucky Union Foods Co., Ltd.*
Maersk Line
Magnate & Syndicate Co., Ltd.
Mahachai Food Processing Co., Ltd.
Marine Gold Products Ltd.¹⁰
Merit Asia Foodstuff Co., Ltd.
Merkur Co., Ltd.
Ming Chao Ind Thailand
N&N Foods Co., Ltd.
N.R. Instant Produce Co., Ltd.
Namprik Maesri Ltd. Part.
Narong Seafood Co., Ltd.*
Nongmon SMJ Products
Ongkorn Cold Storage Co., Ltd./Thai-Ger Marine Co., Ltd.*
Pacific Queen Co., Ltd.
Pakfood Public Company Limited/Asia Pacific (Thailand) Co., Ltd./Chaophraya Cold Storage Co., Ltd./Okeanos Co., Ltd./Okeanos Food Co., Ltd./Takzin Samut Co., Ltd.*
Pakpanang Coldstorage Public Co., Ltd.*
Penta Impex Co., Ltd.
Pinwood Nineteen Ninety Nine
Piti Seafood Co., Ltd.*
Premier Frozen Products Co., Ltd.
Preserved Food Specialty Co., Ltd.
Queen Marine Food Co., Ltd.
Rayong Coldstorage (1987) Co., Ltd.
S&D Marine Products Co., Ltd.*
S&P Aquarium
S&P Syndicate Public Company Ltd.
S. Chaivaree Cold Storage Co., Ltd.
S. Khonkaen Food Industry Public Co., Ltd. and/or S. Khonkaen Food Ind. Public
S.K. Foods (Thailand) Public Co. Limited
Samui Foods Company Limited
SB Inter Food Co., Ltd.
SCT Co., Ltd.
Sea Bonanza Food Co., Ltd.
SEA NT'L CO., LTD.
Seafoods Enterprise Co., Ltd.
Seafresh Fisheries/Seafresh Industry Public Co., Ltd.*
Search and Serve
Sethachon Co., Ltd.*
Shianlin Bangkok Co., Ltd.
Shing Fu Seaproducts Development Co.*
Siam Food Supply Co., Ltd.
Siam Haitian Frozen Food Co., Ltd.*
Siam Intersea Co., Ltd.*
Siam Marine Products Co. Ltd.
Siam Ocean Frozen Foods Co. Ltd.*
Siamchai International Food Co., Ltd.
Smile Heart Foods Co. Ltd.
SMP Food Products, Co., Ltd.*
Soctrang Seafood JSC
Southport Seafood Co., Ltd.*
Star Frozen Foods Co., Ltd.
Starfoods Industries Co., Ltd.*
Suntechthai Intertrading Co., Ltd.
Surapon Foods Public Co., Ltd./Surat Seafoods Public Co., Ltd.*
Surapon Nichirei Foods Co., Ltd.*
Suratthani Marine Products Co., Ltd.*
Suree Interfoods Co., Ltd.
T.S.F. Seafood Co., Ltd.
Tep Kinsho Foods Co., Ltd.*
Teppitak Seafood Co., Ltd.
Tey Seng Cold Storage Co., Ltd.*
Thai Agri Foods Public Co., Ltd.
Thai Hanjin Logistics Co., Ltd.
Thai Mahachai Seafood Products Co., Ltd.*
Thai Ocean Venture Co., Ltd.
Thai Patana Frozen
Thai Prawn Culture Center Co., Ltd.
Thai Royal Frozen Food Co., Ltd.*
Thai Spring Fish Co., Ltd.*
Thai Union Frozen Products Public Co., Ltd./Thai Union Seafood Co., Ltd.*
Thai Union Manufacturing Company Limited*
Thai World Import and Export Co., Ltd.
Thai Yoo Ltd., Part.
The Siam Union Frozen Foods Co., Ltd.*
The Union Frozen Products Co., Ltd./Bright Sea Co., Ltd.*
Trang Seafood Products Public Co., Ltd.
Transamut Food Co., Ltd.*
Tung Lieng Tradg
United Cold Storage Co., Ltd.
UTXI Aquatic Products Processing Company
V. Thai Food Product Co., Ltd.
Wann Fisheries Co., Ltd.*
Xian-Ning Seafood Co., Ltd.*
Yeenin Frozen Foods Co., Ltd.*
YHS Singapore Pte
ZAFCO TRDG

Interested parties must submit applications for disclosure under administrative protective orders in accordance with 19 CFR 351.305. On January 22, 2008, the Department published Antidumping and Countervailing Duty Proceedings: Documents Submission Procedures; APO Procedures, 73 FR 3634 (Jan. 22, 2008). Those procedures apply to the administrative reviews included in this notice of initiation. Parties wishing to participate in either of these administrative reviews should ensure that they meet the requirements of these procedures (e.g., the filing of separate letters of appearance as discussed at 19 CFR 351.103(d)).

⁶ On December 11, 2012, the Department determined that Apex Frozen Foods Private Limited is the successor-in-interest to Apex Exports. See Final Results of Antidumping Duty Changed Circumstances Review: Certain Frozen Warmwater Shrimp From India. 77 FR 73619 (Dec. 11, 2012).

⁷ Shrimp produced and exported by Devi Sea Foods (Devi) was excluded from this order effective February 1, 2009. See Certain Frozen Warmwater Shrimp From India: Final Results of Antidumping Duty Administrative Review, Partial Rescission of Review, and Notice of Revocation of Order in Part, 75 FR 41813, 41814 (July 19, 2010). Accordingly, we are initiating this administrative review with respect to Devi only for shrimp produced in India where Devi acted as either the manufacturer or exporter (but not both).

⁸ On December 1, 2010, the Department found that A Foods 1991 Co., Limited is the successor-in-interest to May Ao Company Limited. See Notice of Final Results of Antidumping Duty Changed Circumstances Review: Certain Frozen Warmwater Shrimp from Thailand, 75 FR 74684 (Dec. 1, 2010). Because the effective date of this determination is during a prior POR, we included only A Foods 1991 Co., Limited for purposes of initiation.

⁹ The request for deferral only covered Asian Seafoods Coldstorage Public Co., Ltd. and Asian Seafoods Coldstorage (Suratthani) Co., Limited.

¹⁰ Shrimp produced and exported by Marine Gold Products Ltd. (Marine Gold) was excluded from this order effective February 1, 2012. See Certain Frozen Warmwater Shrimp From Thailand: Final Results of Antidumping Duty Administrative Review, and Revocation of Order (in Part) 2011-2012, 78 FR 42497, 42499 (July 16, 2013). Accordingly, we are initiating this administrative review with respect to Marine Gold only for shrimp produced in Thailand where Marine Gold acted as either the manufacturer or exporter (but not both).

Revised Factual Information Requirements

On April 10, 2013, the Department published Definition of Factual Information and Time Limits for Submission of Factual Information: Final Rule, 78 FR 21246 (April 10, 2013), which modified two regulations related to antidumping and countervailing duty proceedings: The definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) other data or statements of facts; (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://enforcement.trade.gov/frn/2013/1304frn/2013-08227.txt, prior to submitting factual information in these segments.

Any party submitting factual information in an antidumping duty proceeding must certify to the accuracy and completeness of that information.¹¹ Parties are hereby reminded that revised certification requirements are in effect for company/government officials as well as their representatives. All segments of any antidumping duty proceedings initiated on or after August 16, 2013, should use the formats for the revised certifications provided at the end of the Final Rule.¹² The Department intends to reject factual submissions in these administrative reviews if the submitting party does not comply with applicable revised certification requirements.

¹¹ See section 782(b) of the Act.

¹² See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Revised Extension of Time Limits Regulation

On September 20, 2013, the Department modified its regulation concerning the extension of time limits for submissions in antidumping duty proceedings.¹³ The modification clarifies that parties may request an extension of time limits before a time limit established under Part 351 expires, or as otherwise specified by the Secretary. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) rebuttal, clarification and correction filed pursuant to 19 CFR 351.301(c)(3)(iv); (3) comments concerning U.S. Customs and Border Protection data; and (4) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these administrative reviews.

¹³ See Extension of Time Limits: Final Rule, 78 FR 57790 (September 20, 2013).

These initiations and this notice are in accordance with section 751(a) of the Act (19 U.S.C. 1675(a)) and 19 CFR 351.221(c)(1)(i).

Dated: March 28, 2014.
Christian Marsh,
Deputy Assistant Secretary for Antidumping and Countervailing Duty Operations.

[FR Doc. 2014-07404 Filed 4-1-14; 8:45 am]

BILLING CODE 3510-DS-P